DEPARTMENT OF TRANSPORTATION

Federal Aviation Administration

14 CFR Part 39

[Docket No. FAA-2017-0174; Directorate Identifier 2014-SW-059-AD]

RIN 2120-AA64

Airworthiness Directives; Bell Helicopter Textron Canada Limited

AGENCY: Federal Aviation Administration (FAA), DOT.

ACTION: Notice of proposed rulemaking (NPRM).

SUMMARY: We propose to adopt a new airworthiness directive (AD) for Bell Helicopter Textron Canada Limited (Bell) Model 429 helicopters. This proposed AD would reduce the life limit of certain landing gear parts and is prompted by a stress analysis. The proposed actions are intended to address an unsafe condition on these products.

DATES: We must receive comments on this proposed AD by May 8, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0174; or in person at the Docket Operations Office between 9 a.m. and 5 p.m., Monday through Friday, except Federal holidays. The AD docket contains this proposed AD, the Transport Canada AD, the economic evaluation, any comments received, and other information. The street address for the Docket Operations Office (telephone 800-647-5527) is in the ADDRESSES section. Comments will be available in the AD docket shortly after receipt.

For service information identified in this proposed rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada, which is the aviation authority for Canada, has issued AD No. CF-2014-28, dated August 19, 2014, to correct an unsafe condition for Bell Model 429 helicopters, serial numbers 57001 and subsequent. Transport Canada advises that Bell has reduced the life limits of several landing gear components and accordingly revised the airworthiness limitations schedule for Model 429 helicopters. The reduced life limits resulted from a stress analysis completed by Bell after the introduction of the Model 429 helicopter to service. While the reduced life limits were originally published in Revision 9 of the Bell Model 429 maintenance manual, Transport Canada AD No. CF-2014-28 requires inserting the new airworthiness limitations schedule in Revision 10 of the Bell Model 429 maintenance manual. Transport Canada states that failure to replace those components prior to the established airworthiness life could result in an unsafe condition.

FAA's Determination

These helicopters have been approved by the aviation authority of Canada and are approved for operation in the United States. Pursuant to our bilateral agreement with Canada, Transport Canada, its technical representative, has notified us of the unsafe condition described in its AD. We are proposing this AD because we evaluated all known relevant information and determined that an unsafe condition is likely to exist or develop on other products of the same type design.

Related Service Information

We reviewed Bell Model 429 Maintenance Manual BHT-429-MM-1, Chapter 4, Airworthiness Limitations Schedule, Revision 9, dated January 6, 2012, which specifies airworthiness life limits and inspection intervals for parts installed on Model 429 helicopters. Revision 9 reduced the life limits for the skid tube assemblies, forward crosstube assembly, and aft crosstube assembly.

Proposed AD Requirements

This proposed AD would reduce the life limit of certain landing gear parts by requiring the removal from service of any part that has reached or exceeded its new life limit before further flight.

Costs of Compliance

We estimate that this proposed AD would affect 71 helicopters of U.S. Registry. We estimate that operators may incur the following costs in order to comply with this AD. Labor costs are estimated at $85 per work-hour. Calculating the life limit would take about 0.25 work-hour for an estimated cost of $21 per helicopter and $1,491 for the U.S. fleet. Replacing a skid tube assembly would take about 2 work-hours and parts would cost about $7,050 for an estimated replacement cost of $7,220. Replacing a forward cross tube assembly would take about 1.5 work-hours and parts would cost about $5,880 for an estimated replacement cost of $6,008. Replacing an aft tube assembly would take about 1.5 work-hours and parts would cost $6,710 for an estimated replacement cost of $6,838.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Limited: Docket No. FAA-2017-0174; Directorate Identifier 2014-SW-059-AD.

(a) Applicability

This AD applies to Bell Helicopter Textron Canada Limited Model 429 helicopters, certificated in any category.

(b) Unsafe Condition

This AD defines the unsafe condition as a landing gear part remaining in service beyond its fatigue life. This condition could result in failure of a landing gear part, failure of a landing gear skid, and subsequent loss of control of the helicopter during takeoff or landing.

(c) Comments Due Date

We must receive comments by May 8, 2017.

(d) Compliance

You are responsible for performing each action required by this AD within the specified compliance time unless it has already been accomplished prior to that time.

(e) Required Actions

Before further flight, determine the accumulated retirement index number (RIN) for each part and remove it from service if it has reached or exceeded its life limit as follows. Thereafter, remove each part from service on or before reaching its life limit. For purposes of this AD, a run-on landing is defined as a landing with forward ground travel of the helicopter greater than 3 feet (0.91 m) with weight on skids.

(1) For Skid Tube Assembly part number (P/N) 429-700-101, 429-700-102, and 429-030-586-107: 16,000 RIN. Count 1 RIN for each landing; count 81 RIN for each run-on landing; and count 117 RIN for each autorotation landing.

(2) For Forward Crosstube Assembly P/N 429-712-101: 10,000 RIN. Count 1 RIN for each landing; count 50 RIN for each run-on landing; and count 118 RIN for each autorotation landing.

(3) Aft Crosstube Assembly P/N 429-723-108: 30,000 RIN. Count 1 RIN for each landing; count 32 RIN for each run-on landing; and count 186 RIN for each autorotation landing.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Bell 429 Maintenance Manual BHT-429-MM-1, Volume 1, Chapter 4, Revision 9, dated January 6, 2012, which is not incorporated by reference, contains additional information about the subject of this AD. For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

(2) The subject of this AD is addressed in Transport Canada AD No. CF-2014-28, dated August 19, 2014. You may view the Transport Canada AD on the Internet at http://www.regulations.gov in the AD Docket.

(h) Subject

Joint Aircraft Service Component (JASC) Code: 3200, Landing Gear System.

Issued in Fort Worth, Texas, on February 27, 2017.
Scott A. Horn,
Acting Manager, Rotorcraft Directorate, Aircraft Certification Service.

[FR Doc. 2017-04371 Filed 3-6-17; 8:45 am]

BILLING CODE 4910-13-P